DEPARTMENT OF THE INTERIOR

Fish and Wildlife Service

[FWS-6-R209-N182; 60138-1265-6CCP-S3]

Final Comprehensive Conservation Plan for the Red Rock Lakes National Wildlife Refuge, MT

AGENCY: Fish and Wildlife Service, Interior.

ACTION: Notice of availability.

SUMMARY: We, the U.S. Fish and Wildlife Service (Service), announce that our final Comprehensive Conservation Plan (Plan) and finding of no significant impact (FONSI) for the Red Rock Lakes National Wildlife Refuge is available. This final Plan describes how the Service intends to manage this refuge for the next 15 years.

ADDRESSES: A copy of the Plan may be obtained by writing to U.S. Fish and Wildlife Service, Division of Refuge Planning, P.O. Box 25486, Denver Federal Center, Denver, Colorado 80225; or by download from http://mountain-prairie.fws.gov/planning.

FOR FURTHER INFORMATION CONTACT: Laura King, 406-644-2211, ext. 210 (phone); 406-644-2661 (fax); or redrocks@fws.gov (e-mail).

SUPPLEMENTARY INFORMATION: The Red Rock Lakes National Wildlife Refuge is located 28 miles east of Monida in Beaverhead County in southwestern Montana. This 48,955-acre refuge sits at 6,670 feet above sea level and lies east of the Continental Divide near the uppermost reach of the Missouri drainage.

The refuge was established in 1935 by President Franklin D. Roosevelt. Historically, management focused on protecting and enhancing the trumpeter swan population at the refuge. In the 1930s, the refuge was their last known breeding location. The refuge played an important role in their recovery and today continues to provide protected nesting and resting areas for these magnificent birds.

The refuge has one of the most naturally diverse areas in the National Wildlife Refuge System. The refuge boasts the largest wetland complex within the Greater Yellowstone Ecosystem, as well as expansive tracts of grassland and sagebrush-steppe habitats and a small amount of mid-elevation forested areas. These habitats support over 200 species of birds, including peregrine falcons, bald eagles, short-eared owls, sandhill cranes, sage grouse, trumpeter swans and numerous other species of waterfowl and waterbirds. Common mammalian species include Shiras moose, Rocky Mountain elk, mule and white-tailed deer, badger, coyote, and red fox. In addition, wolves and grizzly bears have been documented using the refuge. There is also a remnant population of native adfluvial Arctic grayling that occurs on the refuge.

A full-time staff of five employees and various summer temporaries manage and study the refuge habitats and maintain visitor facilities. Domestic livestock grazing and prescribed fire are the primary management tools used to maintain and enhance upland habitats. Currently, four grazing cooperators are using refuge lands. Water level manipulation occurs in some areas of the refuge to improve wetland habitats.

Approximately 12,000 people visit the refuge annually. Two refuge roads and three county roads that pass through the refuge account for the majority of visitor use. The refuge is open to limited fishing, with the majority of fishing occurring on Red Rock. In addition, the refuge is open to limited hunting of ducks, geese, coots, and moose. Elk, pronghorn, moose, mule deer, and white-tailed deer are also hunted on certain areas of the refuge according to State regulations and seasons.

The draft Plan and Environmental Assessment (EA) was made available to the public for review and comment following the announcement in the Federal Register on September 26, 2008 (73 FR 55864-55865). The public was given 60 days to comment. Over 100 individuals and groups provided comments and appropriate changes were made to the final Plan based on substantive comments. The draft Plan and Environmental Assessment identified and evaluated four alternatives for managing the refuge for the next 15 years. Alternative B (the proposed action submitted by the planning team) was selected by the Region 6 Regional Director as the preferred alternative and will serve as the final Plan.

The final Plan identifies goals, objectives, and strategies that describe the future management of Red Rock Lakes National Wildlife Refuge. Alternative B, the preferred alternative, acknowledges the importance of naturally functioning ecological communities on the refuge. However, changes to the landscape (e.g., human alterations to the landscape, past refuge management creating wetlands, and species in peril requiring special management actions) prevent managing the refuge solely as a naturally functioning ecological community. Because some of these changes are significant, some refuge habitats will require “hands on” management actions during the life of this Plan, while others will be restored. Refuge habitats will continue to be managed utilizing water control structures, prescriptive cattle grazing, and prescribed fire. The structures that created Culver and MacDonald Ponds will be removed to restore 1.7 miles of native streams to provide habitat for spawning native adfluvial Arctic grayling, migratory birds, and native ungulates. The refuge will do this systematically over the life of the Plan, conducting numerous studies to determine the effects and best methods of restoration, including any effects on downstream users. Mechanical, biological, and chemical treatments will be used to control invasive species. Monitoring and documenting the response to management actions will be greatly expanded. Additional habitat and wildlife objectives will be clearly stated in step down management plans to be completed as this Plan is implemented. Visitor services programs will be maintained and expanded including hunting, fishing, wildlife observation and photography, environmental education and interpretation. Hunting of big game and waterfowl will continue. Big game hunting boundaries will be modified or expanded to address confusing boundaries and impacts to refuge habitats, while providing additional quality hunting opportunities. Actions will be taken to ensure that current and expanded hunting opportunities are carefully planned. The refuges' environmental education program will be modestly expanded, given the refuges' remote location. Interpretation programs will also be enhanced to better educate and orient visitors while maintaining the wilderness characteristics of the refuge. Fishing will be expanded and visitors will be encouraged to keep non-native fish species (according to State regulations) that impact native adfluvial Arctic grayling. Some refuge trails will provide interpretation and be identified on a new visitor services map. Idlewild Road will remain open, but no new roads or trails will be added. An interpreted auto tour route will be created along roads currently open to the public. Interpretation will occur through a brochure and limited signage. Both refuge campgrounds will be maintained to support wildlife dependent compatible recreation on this remote refuge and enhanced to provide access to disabled visitors. Campground users will be charged a small fee to provide funds needed to maintain the campground facilities. Seven full-time and one permanent seasonal staff will be assigned to the refuge. Due to the lack of housing around this remote refuge, up to four residences will be constructed for this added staff.

The Service is furnishing this notice to advise other agencies and the public of the availability of the final Plan, to provide information on the desired conditions for the refuge, and to detail how the Service will implement management strategies. Based on the review and evaluation of the information contained in the EA, the Regional Director has determined that implementation of the Final Plan does not constitute a major federal action that would significantly affect the quality of the human environment within the meaning of Section 102(2)(c) of the National Environmental Policy Act. Therefore, an Environmental Impact Statement will not be prepared.

Dated: February 23, 2010.
Hugh Morrison,
Regional Director, Region 6, U.S. Fish and Wildlife Service.

[FR Doc. 2010-4513 Filed 3-3-10; 8:45 am]

BILLING CODE 4310-55-P